ENVIRONMENTAL PROTECTION AGENCY

[EPA-HQ-OAR-2022-0020; FRL-10459-01-OMS]

Information Collection Request Submitted to OMB for Review and Approval; Comment Request; NESHAP for Publicly-Owned Treatment Works (Renewal)

AGENCY: Environmental Protection Agency (EPA).

ACTION: Notice.

SUMMARY: The Environmental Protection Agency (EPA) has submitted an information collection request (ICR), NESHAP for Publicly-Owned Treatment Works (EPA ICR Number 1891.11, OMB Control Number 2060-0428), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments. A fuller description of the ICR is given below, including its estimated burden and cost to the public. An agency may neither conduct nor sponsor, and a person is not required to respond to a collection of information unless it displays a currently valid OMB control number.

DATES: Additional comments may be submitted on or before December 28, 2022.

ADDRESSES: Submit your comments, referencing Docket ID Number EPA-HQ-OAR-2022-0020, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Publicly-Owned Treatment Works (POTW) (40 CFR part 63, subpart VVV) were proposed on December 1, 1998; and promulgated on October 26, 1999; and amended on both December 22, 2008, and October 26, 2017 (82 FR 49513). These regulations apply to both existing and new Group 2 POTW located at a major source of hazardous air pollutants (HAP), or to Group 1 POTW that are either area or major sources. Group 1 POTWs are facilities that accept wastewater regulated by another NESHAP and provide treatment “as an agent” for the industrial user. Group 1 POTWs are subject to the monitoring, recordkeeping, and reporting requirements of the other regulating NESHAP but have no additional monitoring, recordkeeping, or reporting requirements under Subpart VVV. Group 2 POTWs are POTWs that do not meet the definition of a Group 1 POTW and must meet the criteria for a pretreatment program under 40 CFR 403.8. New facilities include those that commenced either construction, or reconstruction, after the date of proposal. This information is being collected to assure compliance with 40 CFR part 63, Subpart VVV.

Form Numbers: 5900-603.

Respondents/affected entities: Owners and operators of publicly-owned treatment works.

Respondent's obligation to respond: Mandatory (40 CFR part 63, Subpart VVV).

Estimated number of respondents: 13.7 (total).

Frequency of response: Initially, occasionally, semiannually and annually.

Total estimated burden: 17 hours (per year). Burden is defined at 5 CFR 1320.3(b).

Total estimated cost: $865 (per year), which includes no annualized capital/startup and/or operation & maintenance costs.

Changes in the Estimates: The increase in burden from the most-recently approved ICR is due to an adjustment(s). The adjustment increase is due to a slight increase in the number of respondents. There is a slight increase in costs, which is due to the increased number of respondents.

Courtney Kerwin,
Director, Regulatory Support Division.

[FR Doc. 2022-25876 Filed 11-25-22; 8:45 am]

BILLING CODE 6560-50-P